DEPARTMENT OF THE INTERIOR

National Park Service

Notice of Inventory Completion of Human Remains and Associated Funerary Objects in the Possession of the Peabody Museum of Archaeology and Ethnology, Harvard University, Cambridge, MA; Correction

AGENCY: National Park Service, Interior.

ACTION: Notice; correction.

Notice is here given in accordance with provisions of the Native American Graves Protection and Repatriation Act (NAGPRA), 25 U.S.C. 3003, Sec. 3, of the completion of an inventory of human remains and associated funerary objects in the possession of the Peabody Museum of Archaeology and Ethnology, Harvard University, Cambridge, MA. These human remains and associated funerary objects were removed from a gravesite near Kelseyville, Lake County, CA.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

This notice corrects the number of associated funerary objects listed in paragraphs 4 and 6 of a Notice of Inventory Completion published in the Federal Register on November 22, 2000 (FR Doc. 00-29834, pages 70363-70364).

Paragraph 4 is corrected by substituting the following paragraph:

In 1908, human remains representing one individual were collected by Grace A. Nicholson, and donated to the Peabody Museum of Archaeology and Ethnology by Lewis H. Farlow. This individual had been identified as Captain Posh-ka of the Kuh-lah-na-pi Tribe of Pomo Indians. The 118 associated funerary objects are 10 lots of shell beads, 10 stone beads, 30 clam shells, 5 stone chips, 9 stone knives, 5 bone fragments, 3 ceramic fragments, 29 buttons, 9 nails, 3 metal toy fragments, 2 obsidian fragments, 2 stone pestles, and 1 stone mortar.

Paragraph 6 is corrected by substituting the following paragraph:

Based on the above-mentioned information, officials of the Peabody Museum of Archaeology and Ethnology have determined that pursuant to 43 CFR 10.2 (d)(1), the human remains listed above represent the physical remains of one individual of Native American ancestry. Officials of the Peabody Museum of Archaeology and Ethnology also have determined that pursuant to 43 CFR 10.2 (d)(2), the 118 objects listed above are reasonably believed to have been placed with or near individual human remains at the time of death or later as part of the death rite or ceremony. Lastly, officials of the Peabody Museum of Archaeology and Ethnology have determined that, pursuant to 43 CFR 10.2 (c), there is a relationship of shared group identity that can be reasonably traced between these human remains and associated funerary objects and the Big Valley Band of Pomo Indians of the Big Valley Rancheria, California. This notice has been sent to officials of the Big Valley Band of Pomo Indians of the Big Valley Rancheria, California, and the Lake County Inter-Tribal NAGPRA Consortium. Representatives of any other Indian tribe that believes itself to be culturally affiliated with these human remains and associated funerary objects should contact Patricia Capone, Repatriation Coordinator, Peabody Museum of Archaeology and Ethnology, 11 Divinity Avenue, Cambridge, MA 02138, telephone (617) 496-3702, before April 7, 2003. Repatriation of the human remains and associated funerary objects to the Big Valley Band of Pomo Indians of the Big Valley Rancheria, California may begin after that date if no additional claimants come forward.

Dated: December 17, 2002.
John Robbins,
Assistant Director, Cultural Resources Stewardship and Partnerships.

[FR Doc. 03-5504 Filed 3-6-03; 8:45 am]

BILLING CODE 4310-70-S